FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 28, 2016.

A. Federal Reserve Bank of St. Louis (David L. Hubbard, Senior Manager) P.O. Box 442, St. Louis, Missouri 63166-2034. Comments can also be sent electronically to Comments.applications@stls.frb.org:

1. Janive Blanchard, Russellville, Arkansas, as trustee of the Blanchard Living Trust; Charles Bowen Blanchard, Russellville, Arkansas; Charles H. Blanchard, Russellville, Arkansas; Cynthia Blanchard, Russellville, Arkansas, individually and as co-trustee of the William H. Bowen Share No. 2 Trust, the William H. Bowen Exempt Share No. 1 QTIP Trust, and the William H. Bowen Nonexempt Share No. 1 QTIP Trust; Mary P. Hardman, Fayetteville, Arkansas, individually and as co-trustee of the William H. Bowen Share No. 2 Trust, the William H. Bowen Exempt Share No. 1 QTIP Trust, and the William H. Bowen Nonexempt Share No. 1 QTIP Trust; and W. Scott Bowen, as co-trustee of the William H. Bowen Share No. 2 Trust, the William H. Bowen Exempt Share No. 1 QTIP Trust, and the William H. Bowen Nonexempt Share No. 1 QTIP Trust, to acquire voting shares of First State Banking Corporation, Russellville, Arkansas, and thereby acquire First State Bank, Russellville, Arkansas.

2. James Troy “J.T.” Compton, Mountain View, Arkansas; Charles Kevin Compton, Little Rock, Arkansas; Kris David Compton, Hendersonville, North Carolina; James Kent “Ken” Compton, Conway, Arkansas, each as a general partner and limited partner of the Compton Stone Quarry Family Limited Partnership, LLLP, and as members of the Compton family control group that also includes Lauren Ashley Compton, Niva Compton Lancaster, Springfield, Missouri, as trustee of the Niva Compton Lancaster GST Exempt Trust, Niva Compton Lancaster as trustee of the Niva Lancaster Revocable Living Trust, Charles Daniels and Sonya Daniels, both of Navarre, Florida, as co-trustees of the Daniels Family Trust Dated 7/12/2006, Sonya Daniels as trustee of the Douglas Lancaster Trust and Charles Kevin Compton as trustee of the Kevin Compton Revocable Trust, to acquire voting shares of Stone Bancshares, Inc., of Mountain View, Arkansas, and thereby acquire Stone Bank, Mountain View, Arkansas.

Board of Governors of the Federal Reserve System, July 7, 2016.
Margaret Shanks,
Deputy Secretary of the Board.

[FR Doc. 2016-16453 Filed 7-12-16; 8:45 am]

BILLING CODE 6210-01-P